NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. This is the required notice of a requested permit modification and permit issued.

FOR FURTHER INFORMATION CONTACT: Polly Penhale, ACA Permit Officer, Office of Polar Programs, National Science Foundation, 2415 Eisenhower Avenue, Alexandria, VA 22314; 703-292-7420; email: ACApermits@nsf.gov.

SUPPLEMENTARY INFORMATION: The National Science Foundation (NSF), as directed by the Antarctic Conservation Act of 1978 (Pub. L. 95-541, 45 CFR 670 as amended by the Antarctic Science, Tourism and Conservation Act of 1996, has developed regulations for the establishment of a permit system for various activities in Antarctica and designation of certain animals and certain geographic areas a requiring special protection.

Description of Permit Modification Requested: The Foundation issued a permit (ACA 2017-021) to Leidos Innovations Group on October 30, 2016. The issued permit allows the applicant entry into 8 Antarctic Specially Protected Areas (ASPAs) in the McMurdo/Ross Sea region of Antarctica. Entry into the specially protected areas is permitted to support the research and logistic objectives of the United States Antarctic Program.

The applicant requests a permit modification to extend the expiration date of the permit until January 31, 2023.

The Environmental Officer has reviewed the modification request and has determined that the amendment is not a material change to the permit, and it will have a less than a minor or transitory impact.

Dates: October 30, 2016-January 31, 2023.

The permit modification was issued on August 17, 2021.

Erika N. Davis,
Program Specialist, Office of Polar Programs.

[FR Doc. 2021-17941 Filed 8-20-21; 8:45 am]

BILLING CODE 7555-01-P